FEDERAL COMMUNICATIONS COMMISSION

47 CFR Part 51

[WC Docket Nos. 25-304, 25-208, 17-97; FCC 25-73; FR ID 319327]

Advancing IP Interconnection

AGENCY: Federal Communications Commission.

ACTION: Proposed rule.

SUMMARY: In this document, the Federal Communications Commission (Commission) adopted a Notice of Proposed Rulemaking that proposes to eliminate burdensome legacy interconnection regulations that may prevent providers of modern, internet Protocol (IP)-based networks from interconnecting efficiently, and also seeks comment on ways the Commission can facilitate a successful transition to all-IP interconnection for voice services while retaining critical oversight in areas of public safety and consumer protection, and ensuring competition. The Notice of Proposed Rulemaking proposes to forbear from incumbent local exchange carrier (LEC)-specific interconnection and related obligations, and to eliminate the Commission's rules implementing those provisions by December 31, 2028. The Commission also seeks comment on whether and to what extent eliminating the incumbent LEC-specific interconnection regulatory framework may affect other statutory frameworks or Commission rules, and whether the Commission should revisit any other provisions or rules that are rendered redundant by the elimination of incumbent LECs' interconnection obligations. Finally, the Commission seeks comment on what, if any, regulatory framework for IP interconnection should replace the current interconnection framework under section 251(c)(2), and on the scope of the Commission's authority to regulate IP interconnection under any such framework.

DATES: Comments are due on or before December 26, 2025; reply comments are due on or before January 26, 2026. Written comments on the Paperwork Reduction Act proposed information collection requirements must be submitted by the public, Office of Management and Budget (OMB), and other interested parties on or before January 26, 2026.

ADDRESSES: Pursuant to §§ 1.415 and 1.419 of the Commission's rules, 47 CFR 1.415, 1.419, interested parties may file comments and reply comments. Comments may be filed using the Commission's Electronic Comment Filing System (ECFS). You may submit comments, identified by WC Docket Nos. 25-304, 25-208, and 17-97, by the following methods:

• Electronic Filers: Comments may be filed electronically using the internet by accessing the ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People with Disabilities. To request materials in accessible formats for people with disabilities (braille, large print, electronic files, audio format), send an email to fcc504@fcc.gov or call the Consumer & Governmental Affairs Bureau at 202-418-0530.

In addition to filing comments with the Secretary, a copy of any comments on the Paperwork Reduction Act proposed information collection requirements contained herein should be submitted to the Federal Communications Commission via email to PRA@fcc.gov and to Nicole Ongele, FCC, via email to Nicole.Ongele@fcc.gov.

FOR FURTHER INFORMATION CONTACT: For further information about this proceeding, please contact Jesse Goodwin, Competition Policy Division, Wireline Competition Bureau, at (202) 418-0958, or benjamin.goodwin@fcc.gov, or Erik Beith, Competition Policy Division, Wireline Competition Bureau, at erik.beith@fcc.gov, or (202) 418-0756. For additional information concerning the Paperwork Reduction Act proposed information collection requirements contained in this document, send an email to PRA@fcc.gov or contact Nicole Ongele at (202) 418-2991.

SUPPLEMENTARY INFORMATION: This is a summary of the Commission's Notice of Proposed Rulemaking (NPRM) in WC Docket Nos. 25-304, 25-208, 17-97; FCC 25-73, adopted on October 28, 2025, and released on October 29, 2025. The full text of this document is available for public inspection at the following internet address: https://docs.fcc.gov/public/attachments/FCC-25-73A1.pdf.

Paperwork Reduction Act: This document may contain proposed new or revised information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

Providing Accountability Through Transparency Act: Consistent with the Providing Accountability Through Transparency Act, a summary of the Notice of Proposed Rulemaking is available at https://www.fcc.gov/proposed-rulemakings. To request materials in accessible formats for people with disabilities (e.g. Braille, large print, electronic files, audio format), send an email to fcc504@fcc.gov or call the Consumer & Governmental Affairs Bureau at (202) 418-0530.

Ex Parte Rules: The proceeding this document initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Regulatory Flexibility Act. The Regulatory Flexibility Act of 1980, as amended (RFA), requires that an agency prepare a regulatory flexibility analysis for notice-and-comment rulemaking proceedings, unless the agency certifies that “the rule will not, if promulgated, have a significant economic impact on a substantial number of small entities.” Accordingly, the Commission has prepared an Initial Regulatory Flexibility Analysis (IRFA) concerning potential rule and policy changes contained in this NPRM. The IRFA is set forth below. The Commission invites the general public, in particular small businesses, to comment on the IRFA. Comments must be filed by the deadlines for comments on the NPRM indicated on the first page of this document and must have a separate and distinct heading designating them as responses to the IRFA.

Synopsis

I. Discussion

A. Current State of Interconnection

1. Current Arrangements for TDM Interconnection for Voice Services

We seek comment on the (time-division multiplexing) TDM-based interconnection arrangements that remain in place today for all types of providers. What types of carriers continue to require or employ TDM-based interconnection—for example, large incumbent LECs, small or rural incumbent LECs, competitive LECs, or access tandem operators—and for what services? To what extent are IP-based providers today required to interconnect with incumbent LECs in TDM, even when traffic originates and/or terminates in IP? Are calls still aggregated at TDM access tandems or central offices for routing and transit? Are tandems necessary for routing, or are they an artifact of existing routing arrangements that rely on databases such as the Local Exchange Routing Guide (LERG)? How do carriers exchange TDM traffic today, and do any alternate (non-tandem) interconnection arrangements exist? We ask commenters to describe the typical TDM network topology in use (e.g., local switches, tandems, SS7 signaling points, 911 selective routers), including any legacy functions that depend on TDM interconnection and the classes of providers and categories of service recipients that rely on those arrangements.

1. How do interconnection arrangements between LECs for local traffic differ from arrangements between incumbent LECs and interexchange carriers for long-distance traffic? How do interconnection agreements between other types of providers work, and how do they differ from those governed by section 251(c)? For example, how do competitive LECs interconnect with other competitive LECs? How do competitive LECs interconnect with mobile carriers? How do competitive LECs interconnect with rural telephone companies? How do mobile carriers interconnect with each other or with rural telephone companies? How do interexchange carriers interconnect with mobile carriers or rural telephone companies? Are there subgroups of carriers that should be examined differently? For example, are there some competitive LECs that function as interconnection points, similar to the tandems of incumbent LECs, and are their interconnection arrangements different from competitive LECs that serve a local market? Recognizing that incumbent LEC switched access lines encompass only 3.1% of the voice telephony market, we seek further comment how often interconnection arrangements are actually facilitating the origination or termination of traffic on the legacy public switched telephone network and how often section 251(c)(2) interconnection arrangements are leveraged for the transit of calls to other networks.

We also seek comment on where TDM interconnection actually occurs. Currently, under section 251(c)(2)(B), an incumbent LEC must allow a requesting telecommunications carrier to interconnect at any technically feasible point. The Commission has interpreted this provision to mean that competitive LECs have the discretion to interconnect at multiple points or just at a single point of interconnection (POI) in a given local access and transport area (LATA). We seek comment on where these TDM POIs are located within the network, and how are they geographically distributed. How many TDM POIs are still in use, and how concentrated are these POIs among networks? Do different categories of providers tend to use different types of POIs? For instance, do large incumbent LECs primarily interconnect at their tandems, while smaller competitive and rural LECs rely on third-party tandem hubs or other arrangements? We invite commenters to detail how many POIs exist in a given region and how they are used. For example, how many TDM tandems are active, how many end offices interconnect directly, and to what extent are carrier hotels and other centralized POIs used? Finally, are most, if not all, TDM POIs resident in facilities that do not have SIP POIs? And if so, does this place a burden for providers in transitioning to an all-IP SIP interconnection point with one or more providers?

What are the operational or financial impacts of TDM interconnection arrangements on competitive carriers, particularly rural and small LECs, and those that have already transitioned to all-IP networks? We note concerns that ending incumbent LECs' section 251(c)(2) interconnection obligations could shift new cost among carriers. We therefore seek comment regarding current TDM interconnection practices of small and rural carriers. Do rural telephone companies currently avail themselves of section 251(c)(2)? What interconnection costs do these providers face under existing rules? Are there potential system-wide efficiencies and cost savings from an all-IP network? Are any small and rural carriers now required to interconnect at an IP POI, and if so, under what cost arrangements? What interconnection arrangements do carriers subject to the rural exemption under section 251(f)(1) or (f)(2) have for TDM or IP voice services? Given that such carriers, despite being incumbent LECs, are largely exempt from section 251(c)(2), how do those arrangements with competitive LECs differ from other such interconnection arrangements?

We also seek comment on the architecture of hybrid connections between IP networks and legacy TDM networks, and on the effect of such network arrangements on interconnection agreements. In a typical scenario, an IP-originated call is handed off to a TDM network, or vice versa, requiring media and signaling gateways at the IP-TDM boundary to handle protocol conversions. How often are calls that originate or terminate on the PSTN converted to VoIP for transport and interconnection, and vice versa? Where in the network is the IP-to-TDM or TDM-to-IP conversion occurring? Which providers deploy VoIP-to-TDM and TDM-to-VoIP gateways when calls are exchanged between networks, which providers are responsible for the protocol conversions, and where are these gateways located? What carriers own and operate those gateways, including emergency services gateways that connect to selective routers, and signaling links? How is traffic routed through the TDM portion (e.g., via which tandem switches or trunks), and who bears the costs of these conversions and transport? Do certain incumbent LECs offer interconnection in both TDM and IP, and if so, at what frequency?

We seek comment on the volume of voice traffic still transiting legacy TDM networks. We ask commenters to quantify the remaining TDM usage that providers carry or expect to carry in the near term. For example, what percentage of calls or trunks in providers' networks remain on TDM switches? What service categories (e.g., legacy telephone lines, business T-1/PRI, alarm and elevator lines, 911 services) are still provisioned via TDM, and why have they not yet transitioned to modern alternatives? (“T-1” refers to a physical transmission line standard in North America for digital voice and data services. “PRI,” or “Primary Rate Interface,” refers to a high capacity digital voice and data service delivered over a T-1 line.) To what extent do carriers still offer stand-alone local exchange and/or long-distance service? How relevant is the distinction between local exchange and long-distance service to today's consumers? How often do voice service customers choose a long-distance carrier that is unaffiliated with their local exchange carrier? We ask that commenters provide any data or studies on TDM traffic volumes by category, if possible.

We seek comment on the technical, financial, and regulatory factors that account for the persistence of TDM architectures in our nation's networks. Are there statutory or public safety-related mandates that have effectively required maintaining circuit-switched networks? To what extent do state-level regulatory requirements compel certain carriers to maintain legacy TDM infrastructure or continue offering TDM-based service? To what extent do the costs associated with upgrading networks to IP account for providers' continued reliance on TDM interconnection arrangements? To what extent do certain providers operate IP networks for their own services but rely on TDM solely for interconnection? We seek comment on the contexts and services for which carriers, utilities, and government agencies assert TDM must be maintained alongside IP to prevent disruption to critical services. Despite significant industry progress in transitioning to all-IP networks, some observers have previously noted that certain critical services still depended on existing TDM infrastructure to function, and that complex issues related to these services must be addressed before the IP transition can be completed. For example, the Department of Transportation has emphasized that the Federal Aviation Administration's Telecommunications Infrastructure (FTI) network “is heavily dependent on obsolete 1960s TDM technology across over 30,000 services at 4,600 sites.” To what extent do infrastructure or emergency services currently continue to rely on TDM circuits for critical applications like aviation communications, railway operations, industrial process control, infrastructure monitoring, rural call completion, public safety radio backhaul, or selective routing for legacy 911 networks? Are there other known over-the-top services, such as medical monitors, security alarms, or point of sale terminals, that still use and/or require TDM facilities? Are there commercially available alternatives that could be used, should TDM interconnection become unavailable? We ask that commenters provide detailed examples of such TDM-reliant services, as well as traffic volume estimates, to the extent possible. Are there technical, financial, security, or other practical reasons to maintain certain technologies, in an all-IP world? What specific portion(s) of the network must be TDM to accommodate TDM-reliant services?

2. Current Arrangements for IP Interconnection for Voice Services

We seek comment on current carrier practices and arrangements for IP-to-IP interconnection for voice services. Today's IP-based voice networks often use managed IP cores and session border controllers (SBCs) to carry VoIP calls end-to-end. When an IP-initiated call must transit a TDM network, the VoIP call is handed off via a media gateway to TDM at the network edge. We seek comment on the current network architecture underlying IP interconnection for interconnected VoIP services—how has it evolved since the Commission first took action to promote IP-to-IP interconnection for voice services? In referring to “interconnected VoIP service,” we include those services elsewhere deemed “IP-enabled voice service.” For example, do carriers exchange traffic via Session Initiation Protocol (SIP) trunks, public internet gateways, or private IP networks? How often do carriers use IP-to-IP peering to interconnect directly in IP versus indirectly via IP “tandems” or intermediate providers? How are commercial arrangements for direct IP voice interconnection structured? Do carriers need to individually negotiate each direct connection agreement? What are the costs associated with interconnecting directly over IP compared to exchanging voice traffic over existing internet connections? What protocols and quality-of-service (QoS) mechanisms ensure voice quality?

Some stakeholders have previously noted that voice traffic can be routed and exchanged over the public internet—is the “best efforts” QoS model sufficient to preserve existing voice quality? What mechanisms, protocols, or redundancies are available or in place to prevent voice service disruption when there are network outages or unusual strain on a network's capacity, such as during a natural disaster? How does call routing work when voice traffic is exchanged over the public internet? How are IP addresses and routing handled at IP POIs? Is the Domain Name Service (DNS) used within or between providers in support of SIP? Or, are IP addresses manually set for static routes between points set by a provider? Are there concerns about hijacking of IP address prefixes used for border gateway protocol (BGP) routing? We seek comment on any QoS, latency, or interoperability issues that have arisen in current IP voice interconnection. Are there technical barriers to IP interconnection that the Commission should address and what types of providers are impacted? Commenters should describe in detail the network layers and equipment used in VoIP interconnection today.

We also seek comment on how interconnection practices vary by size, type of provider, and network technology. For example, are small or rural incumbent LECs offering direct IP interconnection at the same frequency as larger incumbent LECs? What percentage of rural carriers have deployed IP facilities and services in their networks, and are they currently providing, or capable of providing, VoIP services? Have competitive LECs and cable operators generally adopted IP-to-IP interconnection, and if so, what models do they use? How do wireless carriers interconnect for Voice over LTE (VoLTE) traffic, and do they require special gateways? Do VoIP providers interconnect directly, or do they rely on their carrier partners? Do large incumbent LECs and rural incumbent LECs also currently offer IP interconnection? What types of providers currently have direct IP interconnection agreements, and how do these agreements account for different network architectures and regulatory status? For cases involving intermediaries, such as third-party IP tandems or transit providers, what role do these intermediaries play, and how widely are such services used?

We also seek comment on the types and number of IP interconnection agreements for interconnected VoIP service that exist today, and how parties to those agreements treat technical and financial issues. For example, in past proceedings, some parties have noted that carriers historically have relied primarily on the LERG and local number portability database (Number Portability Administration Center—NPAC) to route calls, but these databases cannot identify SIP endpoints. Additionally, other parties have previously noted that the preference to route calls to the VoIP provider's competitive LEC partner via PSTN trunks, rather than to the VoIP provider directly, has hampered the implementation of VoIP interconnection. Are these issues still relevant in the context of current IP interconnection arrangements, and if so, how have parties responded to these challenges? How do providers allocate the cost burdens of exchanging IP traffic? How do interconnection arrangements accommodate features like number portability, caller ID authentication, and emergency calling (911)? Are there regulatory burdens or other transaction costs that have stymied the growth of such arrangements in the voice market? We recognize that IP interconnection implicates certain regulatory issues stemming directly from the legacy TDM framework, including intercarrier compensation, access charges, and universal service. While this item is focused on the technological and regulatory frameworks for interconnection the Commission will address other issues as appropriate in separate items. Are carriers negotiating new IP interconnection contracts, or modifying existing TDM agreements? How do state requirements regarding TDM interconnection affect the negotiation and implementation of IP interconnection agreements? Are there other factors affecting negotiations that the Commission has not considered? What lessons can be drawn from providers or states that have made substantial progress toward IP-only infrastructure?

In a legacy TDM world, carriers tend to interconnect at many local central offices and tandems. By contrast, IP networks can span larger regions and aggregate traffic at fewer POIs, such as carrier hotels and internet exchanges. We seek comment on where interconnection for interconnected VoIP traffic is happening today and between which types of carriers. One industry report notes that national carriers have negotiated traffic exchange at a small number of POIs, such as carrier hotels, rather than on a per-LATA basis. Is this the current trend, and if so, why? How do parties negotiate the POIs? Do the location and use of POIs vary with the size and type of provider or modality (e.g., wireline or wireless)? At how many physical POIs do VoIP providers currently exchange traffic with other voice providers and where are these POIs located? Are IP voice POIs co-located with TDM POIs, or are they separate? Are there regional interconnection hubs or multiple local interconnects per area? To what extent are carriers exchanging traffic over the public internet, and where are the POIs located in such arrangements? We ask that comments provide data or estimates on the number and location of current IP POIs.

We also seek comment, specifically, on the effect of recent Commission efforts to facilitate the NG911 transition on current IP interconnection arrangements and the role of TDM architecture during the NG911 transition. In the 2024 NG911 Order, the Commission adopted rules requiring originating service providers (OSPs) to take steps to transition from legacy analog 911 technology to the IP-based NG911 system. Pursuant thereto, OSPs, upon a “valid request” for delivery of 911 traffic in IP-based format by a 911 Authority, must follow a two-phase process for transitioning to NG911. In jurisdictions that have submitted valid requests under the Commission's NG911 transition framework, would NG911 Delivery Points for the delivery of 911 traffic in an IP format to ESInet or other NG911 network facilities play a role in facilitating the IP transition? Has the ongoing transition to NG911 impacted providers' existing interconnection arrangements, and if so, how? How do IP interconnection agreements for interconnected VoIP account for providers' obligations to implement NG911? To what extent does deployment of NG911 promote IP interconnection arrangements? Do any providers rely on existing TDM interconnection to prevent disruption to emergency communications pending completion of the NG911 transition, and what alternative arrangements can be used in these situations? Commenters should address the interplay between any continuing TDM needs for jurisdictions that have not begun or completed the transition to NG911 and interconnection agreements. In what other ways has the NG911 transition affected IP interconnection arrangements for voice service? Commenters should explain in detail the interplay between the NG911 transition and the current state of IP interconnection for interconnected VoIP.

B. Eliminating Interconnection Obligations Under Section 251(c)(2)

1. Effects of Burdensome Interconnection Obligations on the Transition to an All-IP Network

We invite comment on the costs to incumbent LECs of complying with sections 251(c)(2) and (c)(6) of the Act and our rules implementing those provisions, sections 51.305, 51.321, and 51.323, and their impact on the IP transition. We observe that the additional interconnection obligations imposed under section 251(c) of the Act can create heavy burdens for incumbent LECs. These costs can in turn divert resources away from investments in high-speed communications infrastructure, slowing the transition to all-IP networks. Consequently, we seek comment on these observations and on whether forbearance from these additional requirements will speed the move away from TDM-based technologies.

What kinds of expenses—capital, operating, or otherwise—do the additional interconnection mandates found in section 251(c) of the Act impose? On whom, and to what extent? Does the asymmetry in regulatory duties between competing carriers and incumbent LECs encourage investments in outmoded TDM technologies? For example, Digital Progress Institute contends that section 251(c)'s requirements necessitate that incumbent LECs design and maintain outdated TDM facilities, facilities in which they claim competing carriers invest further to gain a regulatory advantage. At the same time, CCA argues that smaller carriers' dependency on incumbent LECs to route their calls stymies IP network investments because smaller carriers must “subtend[] [incumbent LECs'] non-IP tandem facilities.” We seek comment on what burdens carriers, particularly small and rural carriers, face as a result of section 251(c)'s requirements. For example, what costs must carriers bear in converting IP voice traffic to TDM? From TDM to IP? What costs must competing carriers bear in having to interconnect in TDM? How should the Commission evaluate competing costs among different categories of providers? Do these costs for carriers impede the IP transition? How would carriers otherwise allocate resources associated with section 251(c)'s additional interconnection obligations for incumbent LECs? To the extent that resources would be otherwise allocated towards speeding up a carrier's IP transition, how much more quickly could a move to all-IP networks occur? Do these requirements inhibit certain types of commercial agreements that could benefit consumers? Would a determination that interconnection for the exchange of VoIP traffic is not subject to the requirements of section 251(c) facilitate the negotiation of VoIP interconnection agreements? Finally, what kinds of state and local laws and regulations exist for interconnection, and what kinds of costs do they impose?

2. Forbearance From Incumbent LECs' Additional Interconnection and Related Obligations

We propose to forbear, as of the adopted sunset date, from section 251(c)(2) of the Act, forbear from section 251(c)(6) of the Act to the extent it requires incumbent LECs to provide for physical collocation of interconnection equipment, and eliminate our rules implementing those statutory provisions (47 CFR 51.305 (interconnection); 47 CFR 51.321 (methods for obtaining interconnection and access to unbundled elements); 47 CFR 51.323 (standards for physical collocation and virtual collocation)). Below, we seek comment on whether the forbearance criteria outlined in section 10 of the Act have been met. Additionally, we seek comment on the extent to which we should forbear from section 251(c) of the Act, how the Commission should potentially modify its rules, and what steps could be taken to mitigate any potential harm to critical infrastructure services and consumers that may result from forbearance.

Section 10 of the Act requires the Commission to forbear from applying any requirement of the Act or of our regulations to a telecommunications carrier or telecommunications service, or class of telecommunications carriers or telecommunications services, if the Commission determines that: (1) enforcement of the requirement “is not necessary to ensure that the charges, practices, classifications, or regulations by, for, or in connection with that telecommunications carrier or telecommunications service are just and reasonable and are not unjustly or unreasonably discriminatory”; (2) enforcement of that requirement “is not necessary for the protection of consumers”; and (3) “forbearance from applying such provision or regulation is consistent with the public interest.” Satisfaction of all three criteria mandates forbearance. With respect to the third prong, the Commission must consider “whether forbearance from enforcing the provision or regulation will promote competitive market conditions.”

Ensuring practices are just and reasonable (section 10(a)(1)). Were we to forbear from section 251(c)(2) and section 251(c)(6) (to the extent it requires incumbent LECs to provide for physical collocation of interconnection equipment) and eliminate the Commission's implementing rules, incumbent LECs would no longer be subject to additional interconnection requirements not imposed on other kinds of carriers. We believe that these requirements are no longer necessary to ensure that interconnection practices for voice services are just and reasonable and not unreasonably discriminatory. We believe changes in the marketplace since the passage of the 1996 Act's monopoly-ending provisions have reduced competing providers' reliance on incumbent LECs in provisioning service to their customers. In the span of a little over 20 years, reliance on legacy networks has dropped precipitously: the number of reported end-user switched access lines declined from 181 million to just 18 million, far fewer than the 64.5 million interconnected VoIP subscriptions or 288.3 million mobile subscriptions reported in June 2024. Consequently, we seek comment on whether incumbent LECs continue to have the ability or the incentive to engage in the kinds of harmful practices typically associated with a monopoly power with respect to retail voice service, and whether it is still necessary to differentiate incumbent LECs from other carriers with regard to interconnection. We also seek comment on whether interconnection needs could be met pursuant to sections 201 and 251(a).

To what extent, if any, are these additional requirements for incumbent LECs still necessary to ensure providers' practices remain just and reasonable? Assuming carriers cannot avoid interconnecting with incumbent LECs, would incumbent LECs have incentive to take advantage of that? Do incumbent LECs still exert sufficient control over the marketplace to do so? How does the balance of negotiating power differ among the providers today and would that negotiating power change depending on whether the proposals herein are adopted? Absent Commission regulations, would disputes arise between incumbent LECs and competing carriers that could lead to access issues, such as for terminating access or selective router access for 911? Do the Commission's 911 service rules affect LECs' pricing power over facilities used to route 911 calls? How does the Act's collocation requirement ensure just and reasonable practices, if at all? How does the transition of providers' networks to IP affect the necessity of the Act's collocation mandate? Are there any cost savings for incumbent LEC from not having to collocate equipment?

Ensuring protection of consumers (section 10(a)(2)). We seek comment on whether enforcement of these statutes and regulations is necessary for the continued protection of consumers. We believe that the Act's additional interconnection requirements for incumbent LECs are no longer necessary for consumers' protection given the explosive growth in competition from competitive carriers and interconnected VoIP service providers. We believe that such competition renders the kinds of consumer protections afforded by sections 251(c)(2) and (c)(6) unnecessary. We seek comment on this belief. With incumbent LECs' need to compete on more even grounds as a result of their eroded market dominance, we do not anticipate rate increases by incumbent LECs or that other costs would otherwise be absorbed by consumers. Do commenters agree? Does forbearance risk stranding consumers, as alleged by NCTA? Would forbearance expose consumers to disruptions, discontinuation of voice service, or otherwise affect carriers' ability to provide service? Are there concerns specific to customers of small and rural carriers? What role does our collocation requirement play, if any, in continuing to protect consumers?

Consistent with the public interest (section 10(a)(3)). We believe that forbearance from the Act's additional interconnection requirements for incumbent LECs would be consistent with the public interest, in part by improving market competition and ultimately encouraging the transition to modernized networks and services. As outlined above, we seek comment whether burdening incumbent LECs alone with direct interconnection obligations for retail voice service continues to make sense given their lack of dominance in the market. Rather, we seek comment on whether incumbent LECs no longer possess especial leverage in negotiating with competitive LECs or in competing for customers, and whether competitive carriers' stronger market position today enables them to negotiate agreements to interconnect and collocate their equipment in the absence of rules requiring as much. We also seek comment on whether the Act's current requirements distort the market unnecessarily by shifting costs almost entirely to incumbent LECs rather than allowing the parties to negotiate their distribution. By forbearing, we would seek to remedy this distortion and in turn improve market competition. Do commenters agree with our assessment? Is this analysis of the market correct? Do competitive carriers today face challenges in interconnecting with incumbent LECs, particularly in IP? Should we consider whether large incumbents can leverage other services to exact market concessions from smaller providers? Do incumbent LECs ever refuse outright to interconnect in IP or otherwise resist interconnecting outside of TDM? If so, to what extent is this the result of incumbent LECs' additional interconnection obligations under 251(c)? Would forbearance encourage interconnection in IP? What incentives exist for incumbent LECs to interconnect with competitive LECs and other competing providers in TDM versus IP?

We also believe that forbearing from the Act's additional interconnection requirements for incumbent LECs would free up resources for use in development and deployment of next-generation networks, promoting the public interest and counseling in favor of forbearance. Do commenters agree? Do we need to forbear from any section to support the transition to IP? Would forbearance assist in ending the digital divide, whether through hastening the IP transition or otherwise? What other benefits might inure to the public as a result of forbearance? Would forbearance need to be tailored in any way to accommodate the particular needs of small or rural carriers, and if so, how? What harms to the public interest do commenters anticipate, if any, and are they outweighed by the benefits resulting from increased competition, more efficient networks, and availability of additional resources for next-generation high-speed networks?

Extent of forbearance. We further seek comment on whether the Commission should forbear from section 251(c)(2) entirely or whether we should only partially forbear to the extent that section 251(c)(2) imposes obligations on incumbent LECs interconnecting in TDM, specifically. That is, to the extent that section 251(c)(2) could be read to authorize the FCC to newly impose additional requirements on incumbent LECs when they interconnect with other carriers for the exchange of IP voice traffic, we seek comment on whether the Commission should preserve that possibility by tailoring the scope of its forbearance. As outlined above, we seek comment whether incumbent LECs hold a specially advantaged position in the market relative to their competitors in the exchange of IP-based traffic. Is our analysis of the competitiveness of the market correct? How do we account for the continued existence of bottlenecks in voice markets? How does any of the foregoing forbearance analysis differ if we were to only partially forbear from section 251(c)(2)? Are there other reasons the Commission should maintain the possibility of additional obligations for incumbent LECs in the IP context? Do carriers rely on our rules implementing section 251(c)(2) when they interconnect for the exchange of VoIP traffic? Absent section 251(c)(2), what would happen to interconnection arrangements reliant thereon? If the Commission were to only partially forbear, how should the Commission approach making any changes to our implementing rules?

Commission rules. We seek comment on how the Commission should address its implementing rules in light of the proposed forbearance. Could the Commission delete §§ 51.305, 51.321, and 51.323 outright? Are there reasons to maintain those rules, whether in whole or in part? If the Commission partially forbore from sections 251(c)(2) and (6) of the Act, and did not eliminate its rules implementing those sections, would any changes need to be made? Would other sections of the Commission's rules require reevaluation or amendment in light of their deletion or modification?

Interruptions to 911 service. We also seek comment whether forbearing from the interconnection and collocation requirements in section 251(c)(2) and (6) create any risk of interruptions to 911 service. As we noted recently, there are areas where 911 authorities and OSPs have either not begun or have not yet completed the transition to NG911 and continue to rely on legacy selective routers and other TDM-based infrastructure for delivery of 911 calls to public safety answering points (PSAPs). Some commenters have suggested that delivery of 911 calls could be disrupted if carriers of 911 traffic lose access to critical TDM circuits in the 911 call path and are not provided sufficient opportunity to establish alternate IP connections to those facilities. To what extent do carriers rely on the interconnection and collocation rights in sections 251(c)(2) and (6) to obtain access to selective routers and other critical 911 circuits? Is there a risk that incumbent LECs may refuse access or charge unfair prices if we exercise forbearance? If we sunset incumbent LEC interconnection and collocation obligations under sections 251(c)(2) and (6) on December 31, 2028—as we propose below—will that provide carriers sufficient time to secure long-term access to alternative facilities that support routing and delivery of 911 calls? We seek comment on whether any additional safeguards are needed to ensure the continuity of 911 service. For example, should we carve out an exception to our forbearance for interconnections and collocations at a selective router? Should the Commission, on a case-by-case basis, direct incumbent LECs to interconnect or allow collocation when necessary to preserve 911 service? On what basis would the Commission have the authority to do so?

Mitigating harm to critical infrastructure services. We seek comment on how the Commission can avoid any harm to critical infrastructure services in forbearing from interconnection and collocation obligations specific to incumbent LECs. Would forbearance affect the ability of critical infrastructure industries, government agencies, or public safety entities to maintain operations and services? If so, how and to what extent? Can the Commission take steps to mitigate any potential harms? For example, should forbearance from these obligations be conditional, or include a carveout for interconnection and collocation arrangements that are used to provide services to public safety entities or critical infrastructure purposes?

Full implementation of section 251(c) of the Act (section 10(d)). Section 10(d) of the Act requires the Commission to determine whether the requirements in section 251(c) of the Act “have been fully implemented” before forbearing from its provisions. We believe that section 251(c) of the Act has been fully implemented, and seek comment on this view. The Commission has previously concluded that full implementation occurred when its implementing rules went into effect. The D.C. Circuit upheld this conclusion in Qwest Corp. v. FCC. We seek comment on any current and relevant aspects of the fully implemented requirement. We further seek comment on whether the Commission's determination in the Qwest Forbearance Order that section 251(c) has been fully implemented constitutes the best reading of the statute, consistent with the Supreme Court's decision in Loper Bright.

3. Establishing a Date Certain

We propose to forbear from the interconnection obligations specific to incumbent LECs under sections 251(c)(2) and (6) of the Act, as well as our rules implementing those provisions, as of December 31, 2028. We seek comment on our proposal. We believe that this date provides sufficient time for affected parties to make any necessary alternative arrangements. Importantly, we note that sunsetting incumbent LEC-specific interconnection obligations is not tantamount to a prohibition on TDM interconnection. Incumbent LECs, like other providers, could continue interconnecting in TDM, and all telecommunications carriers would still bear the duty to interconnect pursuant to sections 201 and 251(a) of the Act.

Do commenters agree with our proposal? We seek comment on the costs and benefits of establishing December 31, 2028 as the sunset date. If commenters believe that a different date would be more appropriate, what criteria should the Commission use in evaluating the feasibility of a given date? Should there be a single date by which all incumbent LECs' additional interconnection obligations under section 251(c)(2) and (6) are sunset, or should the Commission stagger its sunsetting of these requirements? Do the particular challenges of small and rural carriers necessitate a different or tailored approach? What other dates do commenters propose, and what are the costs and benefits associated with those dates? What other factors or issues should the Commission take into account when determining a sunset date's feasibility? Is this timeframe feasible for seamless accessibility-related transitions?

We seek comment on what changes carriers will need to make to their networks prior to our proposed date of December 31, 2028, for forbearance. What steps must be taken, both by incumbent LECs and the providers with which they interconnect? What steps do small and rural carriers, specifically, need to take, and what are the associated costs? What steps would other relevant parties, such as those that provide critical infrastructure services, need to take? Should the Commission establish intermediate deadlines by which certain benchmarks must be met, e.g., if we imposed requirements on establishing new or modified agreements? Are there any kinds of benchmarks we should establish after the sunset date?

We also seek comment on how existing agreements might be affected. For example, change-in-law provisions of a contract might allow for renegotiation of terms or establish the means by which to resolve disputes. Do providers anticipate modifying existing interconnection agreements or entering into new agreements? What opportunities or challenges might arise? How does the balance of negotiating power differ among the providers today and would that negotiating power change depending on whether the proposals herein are adopted? Would forbearance from certain requirements be likely to necessitate renegotiation of existing agreements, or are those agreements likely to remain unaffected by forbearance? Do small and rural carriers anticipate particular challenges with making arrangements following the elimination of our additional interconnection requirements for incumbent LECs, such as by needing to lease third-party networks or services or purchase equipment and other technology for network upgrades? Are there any steps the Commission should take to prevent unnecessary disruption and costs to providers while they make preparations to transition their networks and agreements?

Other Commission timelines. Additionally, we seek comment on whether and how setting December 31, 2028 as the date certain for ending incumbent LEC-specific interconnection obligations will affect other related and adjacent timeframes adopted or being considered by the Commission. As discussed below, the Commission has previously established or proposed timelines for matters that may affect providers' transitions of their networks to IP. Simultaneously, we recognize that the additional interconnection obligations imposed on incumbent LECs under sections 251(c)(2) and (6) may affect the parties' willingness or ability to interconnect in IP. How should the timeframe for forbearance account for our other timeframes? We specifically seek comment in the context of NG911, caller ID authentication, and technology transitions.

First, we seek comment on the effect of our NG911 requirements on any proposed date certain for ending incumbent LEC-specific interconnection obligations. We note that although the Commission declined to “reference any specific standard or set of standards as part of the codified definition of NG911,” at least one of the commonly accepted standards envisions an end-state NG911 as contingent on ubiquitous IP networks. Would forbearing from sections 251(c)(2) and (6) to the extent described above impact changes being made to upgrade networks to IP and deploy NG911 systems? How else might deployment of NG911 affect the feasibility of our proposed sunset date for additional interconnection obligations for incumbent LECs, or vice versa?

Second, we seek comment on extending the two-year timeframe proposed in the Non-IP Caller ID Authentication NPRM, which would give providers two years to either upgrade their networks to IP or to implement a non-IP caller ID authentication solution, to December 31, 2028, or whatever sunset date we ultimately adopt. We believe that aligning the dates of our proposals in this manner best facilitates the goals of each item and avoids any inconsistencies or redundancies that might otherwise arise. Do commenters agree? What other considerations should we take into account in light of the Non-IP Caller ID Authentication NPRM's proposals?

Third, we seek comment on the effect our proposals in the Technology Transitions NPRM would have on sunsetting additional interconnection obligations for incumbent LECs. Do these proposals bear on our proposed date of December 31, 2028? Or vice versa? Specifically, how does the timing of our streamlining or forbearance proposals in the Technology Transitions NPRM affect setting a date for ending incumbent LECs' additional interconnection obligations? What are the implications of forbearing from section 251(c)(5) before, concurrently, or after forbearing from sections 251(c)(2) and (6)? Are there other considerations about which the Commission should be mindful?

4. Other Regulatory Frameworks and Rules Affected by Eliminating the Incumbent LEC-Specific Interconnection Obligations

We seek comment on whether forbearing from section 251(c)(2) and from section 251(c)(6) (to the extent it requires incumbent LECs to provide for physical collocation of interconnection equipment) and eliminating the Commission rules implementing those provisions would require updating other Commission rules or bear on other statutory frameworks. For example, our numbering rules require an interconnected VoIP provider that has obtained an authorization for direct access to numbering resources from the Commission to demonstrate that the applicant is or will be capable of providing service to the area within sixty (60) days of the numbering resources activation date—often referred to as “facilities readiness”—before obtaining North American Numbering Plan (NANP) numbers. The Commission has explained that an interconnected VoIP provider can satisfy that requirement by providing (1) a combination of an agreement between the interconnected VoIP provider and its carrier partner and an interconnection agreement between that carrier and the relevant LEC, or (2) proof that the interconnected VoIP provider obtains interconnection with the PSTN pursuant to a tariffed offering or a commercial arrangement (such as a TDM-to-IP or VoIP interconnection agreement) providing access to the PSTN. We seek comment on whether an IP-to-IP interconnection agreement for local call exchange should be sufficient under section 52.15(g)(2), if the Commission were to adopt its proposal to forbear from interconnection and related obligations under sections 251(c)(2) and (6) of the Act. We note that in 2023 the Commission declined to revise section 52.15(g)(2) to specify additional documentation, instead retaining flexibility to consider each application. Is that approach still appropriate now, or should our rules explicitly recognize IP-based interconnection as fulfilling the requirement? Would interconnection to the PSTN still be necessary? Are there other numbering administration matters that providers would need to address before and after a transition to IP interconnection, such as call routing, number assignments, and toll-free routing? In the event that we grant relief from incumbent LEC-specific interconnection obligations, are there any changes necessary to the definition of interconnected VoIP?

Do LECs leasing remaining UNEs pursuant to section 251(c)(3) require interconnection pursuant to section 251(c)(2) and § 51.323 of our rules? To what extent would ending such interconnection obligations have the practical effect of eliminating remaining incumbent LEC UNE obligations? If they do, is this a desirable result? We invite comment on whether our rules governing UNE loops, subloops, network interface devices, or other legacy elements would need to be revised or forborne from.

While the NPRM we adopt today focuses on interconnection obligations for incumbent LECs and immediately related issues, we note that the Commission's rules related to tariffing and access charge requirements stem directly from the legacy TDM framework; we intend to address any such related issues as needed in separate future items. In this item, however, we welcome commenters' views on any other rules or sections of the Act that might be rendered obsolete or redundant by the elimination of incumbent LEC-specific interconnection obligations. We also ask commenters to identify any provisions (for example, in sections 251(b)(1)-(4) or 252 of the Act, Parts 51 or 52 of our rules, or elsewhere) that should be updated or clarified, or from which we should forbear. For example, should we eliminate any requirement that local exchange carriers offer presubscribed interexchange providers and the information-sharing requirements associated with that requirement? Does the strict distinction between local and long-distance service, and associated concepts like presubscribed interexchange carriers and LATAs continue to make sense in an all-IP world?

C. Appropriate Regulatory Framework for Interconnection for IP Voice Services

We seek comment on whether and how the Commission should modify its regulatory framework for interconnection to account for IP voice services. As the Commission has previously stated, “[i]t is important that any IP-to-IP interconnection policy framework adopted by the Commission be narrowly tailored to avoid intervention in areas where the marketplace will operate.” Today, carriers can freely negotiate how IP-to-IP interconnection occurs absent heavy-handed Commission regulation. We seek comment on whether there has been any demonstrated need for Commission intervention. Have market incentives proved sufficient to meet the needs contemplated by Congress and the Act? Do any carriers possess sufficient market power to pressure other carriers into accepting unfavorable interconnection terms?

Does the regulatory framework established for traffic exchange under section 251(a) continue to make sense for IP-to-IP interconnection for voice services, or should it more closely resemble the light-touch regulatory approach taken in other areas, including internet traffic exchange? How does the network architecture for interconnected VoIP differ from that of best-efforts internet? Do any particular technical characteristics counsel toward or away from the need for Commission oversight of interconnection for VoIP service? To what extent might the current dynamics of the IP-to-IP voice interconnection marketplace change if we forbore from the TDM interconnection obligations for incumbent LECs under sections 251(c)(2) and (6)? Are there aspects of section 251(c)(2)'s framework that are needed in an IP interconnection environment, and if so, who should those aspects apply to? For example, is the incumbent LECs' responsibility to exchange TDM traffic within existing LATA boundaries appropriate for VoIP traffic today? If so, given that incumbent LECs serve approximately one fourth of all wireline subscriptions, should that burden fall exclusively on one part of the market (such as today's incumbent LECs or comparable carriers) or on all VoIP operators? What protections are needed to ensure secure and efficient delivery of VoIP calls? How should any IP interconnection framework for general voice traffic account for the existing NG911 framework and its requirement for carriers to hand off 911 traffic in IP at designated points of connection within each state? To what extent would a transition to an all-IP infrastructure affect accessibility for people with disabilities? Are there still devices or services, such as TTY or speech-to-speech, that require TDM technology? We invite detailed comment on how the Commission should account for these issues and those raised below.

Scope of traffic and services. We seek comment on the scope of traffic and services that a framework specific to IP-to-IP interconnection for voice traffic should encompass. Should the Commission distinguish between managed or facilities-based VoIP and over-the-top VoIP? Should the Commission's framework encompass all U.S. domestic voice providers that use NANP resources? Are there any definitional or other challenges that exist in attempting to categorize the different types of VoIP traffic? How can we avoid any regulatory asymmetries that could distort the market or otherwise harm consumers? Would adopting an IP interconnection framework for interconnected VoIP traffic compel providers to exchange VoIP traffic under different technological or legal arrangements from those that providers use to exchange other IP traffic? Could the interconnection framework be structured to provide certain interconnection rights with respect to the exchange of VoIP traffic, or certain types of VoIP traffic, while giving providers the freedom to exchange other IP traffic as they are doing now? What impact, if any, would such an approach have on any preexisting arrangements for the exchange of voice or non-voice IP traffic?

We also seek comment on whether any such regulatory framework should distinguish between different types of carriers. For example, should our rules differentiate between incumbent LECs, rural LECs, competitive LECs, or interconnected VoIP providers, particularly if providers interconnect through the internet and not through individual incumbent LEC switches in multiple LATAs? Do other classes of providers, such as originating versus terminating, require specific rule subsets? Does the type of VoIP service provided—e.g., facilities-based versus over-the-top—warrant or necessitate different regulatory schemes?

Duty to interconnect. We seek comment on whether the Commission should adopt rules to require carriers to interconnect in IP, specifically, for voice traffic. Should the Commission mandate that carriers provide direct IP-to-IP interconnection? Alternatively, should the Commission require IP-to-IP interconnection but permit carriers to do so indirectly? Should the Commission require carriers to make an IP address available on public internet at which it will receive voice traffic, and should such a requirement be instead of or in addition to a direct interconnection requirement? Should the Commission prohibit incumbent LECs from requesting that other carriers or VoIP providers exchange traffic in TDM, or alternatively, require the provider requesting TDM interconnection to bear the costs of conversion of IP traffic? Should the Commission prohibit carriers from distinguishing between different types of traffic or providers in its receipt of voice traffic? What requirements would the Commission need to specify if it undertook any such approach? What are the benefits and drawbacks of these various alternatives?

We seek comment whether the Commission should impose certain baseline requirements, such as particular terms and conditions, on IP-to-IP interconnection agreements. Does the application of terms like “just and reasonable” under section 201 and “not unjust or unreasonably discriminatory” under section 202 of the Act differ in an all-IP context? If so, how? How otherwise might any VoIP interconnection obligation differ from that currently imposed on incumbent LECs and other telecommunications carriers in the TDM context? Would incumbent LECs and interconnecting carriers need to specify a date by which there could no longer be changes to existing TDM interconnection arrangements, or to certain terms in those agreements, in preparation of a proposed sunset date? Would a numbering directory similar to that required for telecommunications relay services (TRS) under § 64.613 of our rules allow IP-to-IP traffic to be easily routed in the absence of direct interconnection agreements? What would the costs and benefits of any of the approaches outlined above be? For small and rural carriers, specifically?

Duty to negotiate in good faith. We also seek comment on whether the Commission should impose additional or specific requirements for IP-to-IP interconnection for voice service related to a carrier's duty to negotiate in good faith. The Commission has previously recognized that the “duty to negotiate in good faith has been a longstanding element of interconnection requirements under the Communications Act,” irrespective of the “network technology underlying the interconnection, whether TDM, IP, or otherwise.” The Commission in 2011 espoused its expectation that all carriers negotiate in good faith in response to requests for IP-to-IP interconnection for the exchange of voice traffic and that such good faith negotiations will result in interconnection arrangements between IP networks. We seek comment on whether the Commission's expectation has been realized in the past decade and a half. Was the Commission's stated expectation sufficient to ensure that IP interconnection arrangements for the exchange of voice traffic came to fruition in a timely manner? If not, how can the Commission ensure that all providers of voice services negotiate in good faith in response to requests for IP-to-IP interconnection for the exchange of voice traffic?

IP voice traffic POIs. We seek comment on whether the Commission should determine POIs for VoIP in an all-IP world. If so, how would the Commission do so? Could or should the Commission require POIs in each state, region, or tandem, or at certain “technically feasible” points? How does the concept of technical feasibility apply in end-to-end IP networks? Does the concept of LATAs continue to make sense in an all-IP world? By comparison, how many interconnection points do providers use to interconnect with the internet? Should the Commission limit the number of required POIs? We seek comment on what role, if any, the Commission should play in developing a POI framework for IP interconnection for voice services, and on approaches that do not impose overly prescriptive regimes that detract from the efficiencies of IP networks. Could or should the Commission require interconnection at existing NG911 Delivery Points where they exist? Would doing so interfere with a state's ability to determine the configuration of their emergency services networks? What call routing requirements are needed, if any, to ensure continued functionality of services such as E911 or 988? Should the Commission require certain categories of voice traffic be managed? What should be the role of technical standards-setting bodies in developing a framework for IP interconnection?

Exchanging VoIP traffic over the public internet. We seek comment on whether the Commission can and should encourage the exchange of IP voice traffic over the public internet. What efficiencies could be derived through exchanging IP-based voice traffic over the internet? Would individually-negotiated contracts be needed? Are there voice carriers today that do not have existing connections to the internet for the provision of consumer internet connectivity to their customers? We seek comment on what tools would need to be developed to efficiently implement such a solution. For example, how would call routing work? Would a database connecting phone numbers to a carrier gateway's IP address need to be developed? Would such a database require technical standards work, and are there any efforts on this front already underway?

Role of states. Finally, we seek comment on what role states should play, if any, in VoIP interconnection and on the landscape of state regulation of IP-to-IP interconnection today. Has any state role been necessary for the establishment of IP interconnection agreements for voice traffic to date? What equities do the states have in ensuring efficient interconnection of intrastate and interstate voice traffic? What role should the Commission play in overseeing any state regulation of VoIP interconnection? Have state actions with respect to VoIP interconnection been consistent with federal policy? Have they been helpful, or a hindrance, to promoting the IP transition? We seek comment whether the Commission should exercise preemption authority over matters related to interconnected VoIP interconnection. If the Commission adopts rules for a framework for IP-to-IP interconnection, should those rules limit the states' role in IP-to-IP interconnection, or prohibit states from attaching certain conditions to IP interconnection negotiations and agreements?

D. Commission Authority Over VoIP Interconnection

To the extent that a regulatory framework governing interconnection for IP voice services is necessary, we seek comment on the best authority under which the Commission could or should adopt rules or requirements to govern IP interconnection for voice services. We also seek comment on which authority is most consistent with our statute as a whole. Specifically, we seek comment on the particular statutory authority that would provide the strongest basis for any interconnected VoIP interconnection framework we might adopt. We also seek comment on how to carefully circumscribe the scope of traffic or services subject to any such framework to leave issues to the marketplace that appropriately can be resolved there.

However, the Commission has not broadly determined whether Voice over internet Protocol (VoIP) providers are “telecommunications carriers,” whether VoIP services, including interconnected VoIP, are “telecommunications services” or “information services,” or whether VoIP services constitute “telephone exchange service” or “exchange access” for the purposes of interconnection rights under sections 201 and 251. Under Commission rules and precedent, providers of interconnected VoIP service may in certain circumstances be treated as telecommunications carriers. For example, the Commission and states have recognized that interconnected VoIP providers may seek designation as Eligible Telecommunications Carriers (ETCs) to participate in universal service programs, so long as they voluntarily hold themselves out as common carriers and meet the applicable requirements. Commission precedent suggests that the statutory terms defining section 251's scope are not confined to legacy TDM-based offerings, but rather turn on the functional nature of the service regardless of protocol. The Commission's technology-neutral reading of these definitions is also consistent with how the Commission has approached interconnection rights under section 251 in the context of IP-based voice services. In the USF/ICC Transformation Order, the Commission observed that “interconnection requirements [under section 251] are technology neutral—they do not vary based on whether one or both of the interconnecting providers is using TDM, IP, or another technology in their underlying networks.” Although the Commission refrained from explicitly ruling that IP-to-IP interconnection is mandated under section 251, it found that the statutory language was neutral on its face as to the underlying network technology, and encouraged parties to negotiate such arrangements in good faith.

Section 251(a)(1). Section 251(a)(1) requires all telecommunications carriers to interconnect either directly or indirectly. The requirements of this provision extend broadly to all telecommunications carriers, and are technology neutral on their face with respect to the transmission protocol used for purposes of interconnection. Can the Commission require providers of voice service to interconnect in IP under section 251(a)? Could the Commission rely on section 251(a)(1) to require IP interconnection between facilities-based interconnected VoIP providers that have not been classified as either a telecommunications service or an information service under the Act?

We seek comment whether section 251(a) provides the Commission authority to adopt rules, if necessary, requiring providers of voice service to make interconnection arrangements for the exchange of voice traffic in IP, and to negotiate good faith arrangements for the same.

To that end, we seek comment on whether providers of interconnected VoIP service are or could be telecommunications carriers (or common carriers). As the D.C. Circuit Court of Appeals explained in NARUC II, “the primary sine qua non of common carrier status is a quasi-public character, which arises out of the undertaking `to carry for all people indifferently.' ” The court went on to explain that the second prerequisite to common carrier status, “formulated by the FCC with peculiar applicability to the communications field,” is that the system be such that customers transmit intelligence of their own design and choosing. We seek comment on whether providers of interconnected VoIP service are common carriers under this test.

While the Commission has not affirmatively classified all VoIP offerings as either a telecommunications service or information service, it has nonetheless recognized that providers may elect to offer interconnected VoIP as a telecommunications service. We thus seek comment on whether the Commission must classify all interconnected VoIP as a telecommunications service in order to regulate interconnected VoIP providers as telecommunications carriers, given that the Act states that a “telecommunications carrier shall be treated as a common carrier under this chapter only to the extent that it is engaged in providing telecommunications services.” Can providers of interconnected VoIP service avail themselves of section 251(a) by offering interconnected VoIP service on a common carrier basis? If so, do both sides of IP-to-IP interconnection need to be offering VoIP on a common carrier basis for the section 251(a) interconnection obligations to apply? Do both sides need to agree that the VoIP service is being offered as a common carrier service? To ensure that any carrier seeking the benefits of such a classification also accepts the accompanying burdens (such as the section 251(a) duty to accept interconnections from others), should we require a carrier seeking to offer VoIP on a common carrier basis to do so throughout their territory or throughout an entire state? We also seek comment whether, if a carrier elects to offer such VoIP services as telecommunications services, and does so without changing the rates, terms, or conditions of service for the customer, it should be viewed “as a transition of underlying network technology, analogous to a provider undertaking a switch migration.”

Section 201. The Commission has historically imposed interconnection obligations pursuant to section 201 of the Act. We seek comment on whether section 201 provides the Commission authority to mandate IP interconnection obligations for voice traffic, including for intrastate traffic—either alone, or in conjunction with, other provisions of the Act—under the interconnection frameworks we explore today. Section 201(a) imposes a duty on “common carrier[s]” engaged in “interstate or foreign communication by wire or radio” to “establish physical connections with other carriers” in cases where the Commission finds it necessary or desirable in the public interest. (We observe that the Commission found interconnected VoIP to a be a jurisdictionally mixed use service in the Vonage Order, and determined that it was not possible to separate out the purely intrastate uses from the interstate uses.) Section 201(b) further requires that all “charges, practices, classifications, and regulations for or in connection with common carrier service” be just and reasonable and not unjust or unreasonable. Section 201(b) also permits the Commission to “prescribe such rules and regulations as may be necessary in the public interest to carry out the provisions of” the Communications Act. We seek comment whether these provisions provide the Commission authority to adopt rules, if necessary, requiring providers of voice service to make interconnection arrangements for the exchange of voice traffic in IP, and to negotiate good faith arrangements for the same. Is this approach most consistent with the best reading of the statute? Does the fact that section 251 specifically governs interconnection bear on whether section 201 can authorize regulations governing IP interconnection? We observe that section 251 includes a savings provision specifying that nothing in section 251 “shall be construed to limit or otherwise affect the Commission's authority under section 201.” What is the import of this provision in evaluating our authority of section 201(a) with respect to IP interconnection? Could regulations addressing VoIP interconnection be grounded in our authority that “[a]ll charges, practices, classifications, and regulations for or in connection with [common carrier] service shall be just and reasonable”? Would a section 201 approach be limited only to interstate and foreign communications?

Section 251(c)(2). Were the Commission to forbear from 251(c)(2) with respect to TDM services, we seek comment whether section 251(c)(2) could provide the Commission the authority to address IP-to-IP interconnection. First, we observe that section 251(c)(2)'s direct interconnection obligations only extend to some incumbent LECs (not rural telephone companies nor mobile carriers nor competitive LECs) and requesting telecommunications carriers (other than interexchange carriers) seeking interconnection with them. Given this framework, would it be appropriate to ground any IP-to-IP interconnection obligations for voice services in the Commission's authority under section 251(c)(2)? If so, would the Commission need to classify VoIP services as telecommunications services for section 251(c)(2) to govern interconnection for IP voice services under this provision? Or would it be sufficient that a VoIP provider held itself out as providing its service on a common carrier basis? Relatedly, we also seek comment whether interconnection for the exchange of VoIP traffic would be “for the transmission and routing of telephone exchange service and exchange access.” Or to put it differently, if the Commission did classify VoIP as a telecommunications service, would section 251(c)(2) apply, if so, to whom and in what respect? And assuming it did apply, should the Commission nonetheless forbear from applying section 251(c)(2) to VoIP?

Section 256. We also seek comment on whether section 256 of the Act provides the Commission authority to regulate IP interconnection for voice service. Section 256(a) states that the purpose of the section is “to ensure the ability of users and information providers to seamlessly and transparently transmit and receive information between and across telecommunications networks.” The Commission “shall establish procedures for Commission oversight of coordinated network planning by telecommunications carriers and other providers of telecommunications service for the effective and efficient interconnection of public telecommunications networks used to provide telecommunications service.” To what extent does this section provide a source of authority for regulation of IP interconnection given the statement in section 256(c) that “[n]othing in this section shall be construed as expanding or limiting any authority that the Commission may have under law in effect before February 8, 1996”?

Section 227b. We seek comment on whether section 227b provides authority for rules governing IP interconnection for voice services. Pursuant to section 227b(b)(1), all voice service providers are required to implement the STIR/SHAKEN caller ID authentication framework in their IP networks, and the Commission has extended that obligation to intermediate providers. Providers must also take reasonable measures to implement an effective caller ID authentication framework in their non-IP networks, but are not required to do so until a non-IP caller ID authentication framework has been developed and is reasonably available. In applying these provisions, the Commission requires voice service providers to either upgrade their entire networks to IP and fully implement STIR/SHAKEN or participate in efforts to develop a non-IP caller ID authentication framework. Section 227b(b)(5)(D) requires the Commission to “take reasonable measures to address any” burdens or barriers to the implementation of STIR/SHAKEN or a non-IP caller ID authentication framework, and to “enable as promptly as reasonable full participation of all classes of providers of voice service and types of voice calls” in these frameworks. We seek comment on whether regulating IP interconnection would be a reasonable measure to address the burdens and barriers of STIR/SHAKEN implementation as necessary to enable full participation in the framework as promptly as reasonable.

Ancillary Authority. We seek comment whether the Commission can rely upon ancillary authority as a basis for an IP interconnection regulatory framework. The Commission may exercise ancillary jurisdiction only when two conditions are satisfied: (1) the Commission's general jurisdictional grant under Title I of the Act covers the regulated subject and (2) the regulations are reasonably ancillary to the Commission's effective performance of its statutorily mandated responsibilities. Regarding the first prong, because interconnected VoIP services are “communications by wire or radio,” the Commission has subject matter jurisdiction over IP traffic such as packetized voice traffic. With regard to the second prong, the D.C. Circuit in Comcast held that the Commission's use of ancillary authority must be linked to express delegations of regulatory authority. The Commission has previously relied in part—though not exclusively—on ancillary authority to apply certain of Title II's obligations to interconnected VoIP service—including obligations pertaining to section 222 customer proprietary network information (CPNI), local number portability, USF contribution, Form 499 regulatory fees, section 255 disability access and TRS, section 214 discontinuance, outage reporting, truth-in-billing, and Form 477 reporting.

We seek comment whether any requirements the Commission might adopt to regulate interconnected VoIP interconnection would be reasonably ancillary to the Commission's exercise of its authority under a statutory provision, such as sections 201, 251(a), (e), 254, 615a-1(b), 617(d), or other authority. For example, would the failure to make arrangements to interconnect, directly or indirectly, for the exchange of voice traffic in IP be reasonably ancillary to the Commission's authority to ensure that all practices in connection with common carrier services be just and reasonable under section 201? Would adopting an IP interconnection regulatory framework be ancillary to the Commission's obligation to enforce telecommunications carriers' duty to “interconnect directly or indirectly with the facilities and equipment of other telecommunications carriers?” Is maintaining Commission oversight over interconnection for exchange of voice traffic ancillary to the Commission's authority over 911 emergency access? Similarly, under the New and Emerging Technologies 911 Improvement Act of 2008 (NET911 Act), IP-enabled voice service providers are required to provide 911 service and enhanced 911 (E911) service in accordance with Commission requirements, and have a right to interconnect with entities that provide such capabilities on the same rates, terms, and conditions as that provided to CMRS providers. Further, the Twenty-First Century Communications and Video Accessibility Act of 2010 (CVAA) authorizes the Commission to implement regulations necessary to achieve reliable and interoperable communication that ensures access to an IP-enabled emergency network by individuals with disabilities, where achievable and technically feasible. We seek comment on whether oversight over IP interconnection arrangements for voice service would be ancillary to the Commission's authorities for 911, including its obligation under the CVAA and its obligations to modify regulations implementing the NET911 Act “from time to time, as necessitated by changes in the market or technology, to ensure the ability of an IP-enabled voice service provider to comply with its obligations” under the statute, observing that “[n]othing in this section shall be construed to permit the Commission to issue regulations that require or impose a specific technology or technological standard.”

Alternatively, or in addition, we seek comment on whether the Commission should adopt regulations pertaining to interconnection for VoIP services by relying on ancillary authority in conjunction with its authority under section 254. Section 254 provides that “[a]ccess to advanced telecommunications and information services should be provided in all regions of the Nation,” and that the Commission's universal service programs “shall” be based on this and other enumerated principles. Section 254(c)(1) states that “[u]niversal service is an evolving level of telecommunications services that the Commission shall establish periodically under this section.” Section 254(b) requires the Commission to base policies for the preservation and advancement of universal service on access to “advanced telecommunications and information services.” We seek comment whether rules to ensure interconnection of networks for the exchange of IP voice traffic would be ancillary to the Commission's obligation to enable advanced telecommunications services to be provided in all regions of the nation. Are there other sources of statutory authority to which interconnected VoIP interconnection obligations are ancillary? Finally, if the Commission were to rely on ancillary authority to impose requirements, would it also need to adopt associated complaint procedures, or could the existing informal and formal complaint processes, which derive from section 208, be interpreted to extend more broadly than alleged violations of Title II duties?

Classification of Interconnected VoIP Service. For any proposed IP interconnection framework, we also seek comment on whether it is necessary, or appropriate, to address classification issues associated with facilities-based or over-the-top interconnected VoIP service. In particular, to the extent that an entity that historically was classified as an incumbent LEC or other telecommunications carrier ceased offering circuit-switched voice telephone service, and instead offered only interconnected VoIP service, we seek comment on whether that entity would remain a “local exchange carrier” or “telecommunications carrier.” The Act defines a “local exchange carrier” as “any person that is engaged in the provision of telephone exchange service or exchange access.” The Act defines the term “telephone exchange service” as “(A) service within a telephone exchange, or within a connected system of telephone exchanges within the same exchange area operated to furnish to subscribers intercommunicating service of the character ordinarily furnished by a single exchange, and which is covered by the exchange service charge, or (B) comparable service provided through a system of switches, transmission equipment, or other facilities (or combination thereof) by which a subscriber can originate and terminate a telecommunications service.” The term “exchange access” means the offering of access to telephone exchange services or facilities for the purpose of the origination or termination of telephone toll services. In the universal service context, the Commission has found that, insofar as a carrier elected to offer VoIP on a common carrier basis, it “did not see a reason why such service would not also be classified as telephone exchange service and exchange access to the same extent as traditional voice telephone service.” Would this same reasoning apply in the context of interconnection for VoIP services?

As mentioned above, the Commission has not determined whether interconnected VoIP services are “telecommunications services” or “information services.” To what extent would the Commission need to classify interconnected VoIP service as a “telecommunications service” under the Act to require voice providers to negotiate IP interconnection agreements for interconnected VoIP services or set other rules or requirements for IP-to-IP interconnection for VoIP services? The Act defines “telecommunications service” as the “offering of telecommunications for a fee directly to the public, or to such classes of users as to be effectively available directly to the public, regardless of the facilities used,” and defines “telecommunications” as “the transmission, between or among points specified by the user, of information of the user's choosing, without any change in the form or content of the information as sent and received.” We seek comment whether interconnected VoIP service is most appropriately classified as a “telecommunications service” under the best reading of the Act. Should all VoIP services be subject to Title II classification, or should we limit our actions to interconnected VoIP services? If so, why? Alternatively, are some offerings of VoIP (or interconnected VoIP) provided on a common carrier basis and others provided on a private carriage basis? If so, how should we distinguish them, both as a matter of law and as to what legal obligations should be imposed on each?

Were the Commission to classify interconnected VoIP service as a telecommunications service, from what provisions of Title II should the Commission forbear with respect to interconnected VoIP service? Should the Commission forbear from provisions of Title II that it has thus far not found necessary to impose on interconnected VoIP service? We seek comment on whether there is any evidence of market failure in the provision of such VoIP services, or whether broader Title II regulation of VoIP services is otherwise necessary to protect consumers or ensure that rates, terms, and conditions are just and reasonable. If there is no evidence of market failure, we seek comment whether it would be in the public interest to forbear from all Title II requirements other than those the Commission currently applies to VoIP service. Alternatively, we seek comment on whether the Commission should align any forbearance for VoIP services with the forbearance granted to commercial mobile radio services.

Other Sources of Authority. Finally, we seek comment on any other sources of Commission authority for adopting a policy framework for IP interconnection for interconnected voice services. What would be the scope and substance of the Commission's authority to address IP interconnection under that authority?

E. Cost Benefit Analysis

Benefits. We seek comment on the benefits of forbearing from our specific interconnection obligations for incumbent LECs and on any potential regulatory framework for IP interconnection. As outlined above, the Commission believes that its current regulatory scheme imposes various costs on providers, whether on incumbent LECs or otherwise. We also anticipate that elimination of these burdens will, among other things, speed deployment of next-generation networks and services. We seek comment on the likely benefits of eliminating these costs, as well as any other benefits resulting from sunsetting our additional interconnection obligations for incumbent LECs.

What regulatory costs will incumbent LECs avoid as a result of such deregulation? Carriers in general? What effect would the absence of Commission intervention have on market competition? What impact could the other proposals herein have on competition? Does our current interconnection regime promote anticompetitive conduct, and would its elimination promote affordability of voice services or improved service offerings? How might small and rural carriers and their customers, in particular, benefit? What other benefits will inure to the public as a consequence? Do commenters believe, as the Commission anticipates, that eliminating incumbent LECs' additional interconnection obligations will hasten the IP transition? How should the Commission account for increased investment in next-generation networks in evaluating the benefits of forbearance? How will providers and the public benefit from ending carriers' reliance on expensive (and frequently stolen) copper, as well as TDM equipment that may be difficult to source? How does the cost of maintaining copper, TDM, and legacy facilities generally compare with the cost of maintaining a modern all-IP network, and does that analysis have implications for high-cost universal service programs? Are there national security implications from ongoing sourcing of second-hand TDM equipment from potentially unsecure supply chains, and how should the Commission evaluate the benefits of transitioning toward an all-IP world? Are there other security benefits to an all-IP world, or ending legacy protocols such as SS7, that would benefit consumers? Specifically, how should the Commission account for the potential benefits of faster adoption of IP-based NG911 and improved implementation of STIR/SHAKEN for the reduction robocalls? Would any state and local laws and regulations undermine these benefits? What kinds of new technologies or services might emerge, and how should the Commission measure the resulting benefits? In addition to enhanced services, do commenters expect carriers to pass along cost savings to customers in the form of reduced prices? What other parties may benefit from our forbearance from incumbent LEC's additional interconnection obligations, and in what ways? We seek quantifications of any expected benefits.

Costs. We recognize that there may be potential costs resulting from forbearance from incumbent LECs' specific section 251(c) interconnection obligations, including the potential to strand customers where service may no longer be practicable for carriers. Additionally, we acknowledge that forbearance from our collocation requirements for incumbent LECs may impose costs on competitive LECs that previously were borne by the former. These costs may include incurring both capital and operating expenditures. We seek comment on the extent of these costs and any others that may result from the elimination of our additional interconnection rules for incumbent LECs, including for competitive and rural providers and their customers. Could forbearance have a negative impact on competition? We also seek comment on whether there any technical or policy issues the Commission should be aware of that could arise as carriers transition from TDM to IP as a result of our proposals. For example, for carriers that have not fully converted to IP calling, would there be a need to convert their existing TDM traffic to IP? What would the burdens of such conversion be? What are the costs and burdens imposed on other carriers by those that have not converted their traffic to IP? What costs would be associated with any potential regulatory framework for IP interconnection? What costs might this order place on emergency services that currently continue to rely on TDM circuits for critical applications? In particular, we seek comment on the potential costs to small and rural carriers and their customers. We also seek analysis that includes quantification of these risks.

II. Initial Regulatory Flexibility Analysis

As required by the Regulatory Flexibility Act of 1980, as amended (RFA) the Federal Communications Commission (Commission) has prepared this Initial Regulatory Flexibility Analysis (IRFA) of the policies and rules proposed in the Notice of Proposed Rulemaking (NPRM) assessing the possible significant economic impact on a substantial number of small entities. The Commission requests written public comments on this IRFA. Comments must be identified as responses to the IRFA and must be filed by the deadlines for comments specified on the first page of the NPRM. The Commission will send a copy of the NPRM, including this IRFA, to the Chief Counsel for Advocacy of the Small Business Administration (SBA). In addition, the NPRM and IRFA (or summaries thereof) will be published in the Federal Register.

A. Need for, and Objectives of, the Proposed Rules

The NPRM seeks to accelerate the transition of our Nation's communications networks to all‐internet Protocol (IP) technology by examining our incumbent local exchange carrier (LEC)-specific interconnection requirements. Changes in the communications marketplace have altered how providers deliver services to consumers. To reduce regulatory burdens that hinder providers from investing in and deploying next-generation networks, the NPRM seeks comment on the current state of time division multiplexing (TDM) and IP interconnection for voice services, and on the costs to telecommunications carriers of complying with sections 251(c)(2) and (c)(6) of the of the Communications Act of 1934, as amended (the Act), and the Commission's rules implementing those provisions, and their impact on the IP transition. The NPRM proposes to forbear from incumbent LEC-specific interconnection and related obligations in sections 251(c)(2) and (c)(6), and to eliminate the Commission's rules implementing those provisions, by December 31, 2028. The NPRM also seeks comment on whether forbearing from sections 251(c)(2) and (c)(6) would require updating other Commission rules or statutory frameworks. The NPRM seeks comment on whether and how the Commission should modify its regulatory framework for interconnection to account for IP voice services, and on the scope of the Commission's authority to regulate IP interconnection under any such framework. The NPRM further seeks comment on the benefits of forbearing from the Commission's specific interconnection obligations for incumbent LECs and on any potential regulatory framework for IP interconnection. Finally, the NPRM seeks comment on the potential costs that may result from the elimination of the Commission's additional interconnection rules for incumbent LECs, including the costs to small and rural carriers and their customers.

B. Legal Basis

The proposed action is authorized pursuant to sections 1-4, 201, 251(a), 251(c)(2), 251(c)(6) of the Communications Act of 1934, as amended, 47 U.S.C. 151-54, 201, 251(a), 251(c)(2), 251(c)(6).

C. Description and Estimate of the Number of Small Entities to Which the Proposed Rules Will Apply

The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act.” A “small business concern” is one which: (1) is independently owned and operated; (2) is not dominant in its field of operation; and (3) satisfies any additional criteria established by the SBA. The SBA establishes small business size standards that agencies are required to use when promulgating regulations relating to small businesses; agencies may establish alternative size standards for use in such programs, but must consult and obtain approval from SBA before doing so.

Our actions, over time, may affect small entities that are not easily categorized at present. We therefore describe three broad groups of small entities that could be directly affected by our actions. In general, a small business is an independent business having fewer than 500 employees. These types of small businesses represent 99.9% of all businesses in the United States, which translates to 34.75 million businesses. Next, “small organizations” are not-for-profit enterprises that are independently owned and operated and not dominant their field. While we do not have data regarding the number of non-profits that meet that criteria, over 99 percent of nonprofits have fewer than 500 employees. Finally, “small governmental jurisdictions” are defined as cities, counties, towns, townships, villages, school districts, or special districts with populations of less than fifty thousand. Based on the 2022 U.S. Census of Governments data, we estimate that at least 48,724 out of 90,835 local government jurisdictions have a population of less than 50,000.

The rules proposed in the NPRM will apply to small entities in the industries identified in the chart below by their six-digit North American Industry Classification System (NAICS) codes and corresponding SBA size standard.

Regulated industry (NAICS classification) | NAICS code | SBA size standard | Total firms | Small firms | Percentage small firms in industry
Wired Telecommunications Carriers | 517111 | 1,500 employees | 3,054 | 2,964 | 97.05
Wireless Telecommunications Carriers (except Satellite) | 517112 | 1,500 employees | 2,893 | 2,837 | 98.06
All Other Telecommunications | 517810 | $40 million | 1,079 | 1,039 | 96.29

Based on currently available U.S. Census data regarding the estimated number of small firms in each identified industry, we conclude that the proposed rules will impact a substantial number of small entities. Where available, we also provide additional information regarding the number of potentially affected entities in the above identified industries.

2024 Universal service monitoring report telecommunications service provider data (data as of December 2023): Affected entity | SBA size standard (1500 employees): Total number FCC Form 499A filers | SBA size standard (1500 employees): Small firms | SBA size standard (1500 employees): Percent small entities
Competitive Local Exchange Carriers (CLECs) | 3,729 | 3,576 | 95.90
Incumbent Local Exchange Carriers (Incumbent LECs) | 1,175 | 917 | 78.04
Interexchange Carriers (IXCs) | 113 | 95 | 84.07
Local Exchange Carriers (LECs) | 4,904 | 4,493 | 91.62
Operator Service Providers (OSPs) | 22 | 22 | 100
Other Toll Carriers | 74 | 71 | 95.95
Wired Telecommunications Carriers | 4,682 | 4,276 | 91.33
Wireless Telecommunications Carriers (except Satellite) | 585 | 498 | 85.13

D. Description of Economic Impact and Projected Reporting, Recordkeeping, and Other Compliance Requirements for Small Entities

The RFA directs agencies to describe the economic impact of proposed rules on small entities, as well as projected reporting, recordkeeping and other compliance requirements, including an estimate of the classes of small entities which will be subject to the requirements and the type of professional skills necessary for preparation of the report or record.

The NPRM seeks comment on proposals that, if adopted, we expect will reduce reporting, recordkeeping, and other compliance requirements, as small and other carriers would then be subject to fewer regulatory burdens. In the NPRM, we first propose to end incumbent LECs' interconnection obligations under section 251(c)(2) and (c)(6) of the Act, as well as our rules implementing those provisions on December 31, 2028. We propose to forbear, as of the sunset date, from section 251(c)(2) of the Act, partially forbear from section 251(c)(6) of the Act, and eliminate our rules implementing those statutory provisions, by which incumbent LECs would no longer be required to meet additional interconnection obligations or provide collocation of interconnection equipment. The NPRM seeks comment on the costs and benefits of these proposals, or of commercial or other arrangements, needed for providers that may require additional time to transition to IP technology, and whether small carriers face specific challenges resulting from eliminating interconnection requirements, such as needing to lease third-party networks or services to interconnect in IP. For example, through comments received in response to the NPRM, we seek to ascertain the potential cost of forbearance to small and rural competitive LECs from our collocation requirements previously borne by incumbent LECs. We then seek comment on whether forbearing from sections 251(c)(2) and (c)(6) would require updating other Commission rules that might be rendered obsolete or redundant by the elimination of incumbent LECs' interconnection obligations. The NPRM also seeks comment on whether the Commission should establish a regulatory framework for IP-to-IP interconnection for voice traffic and what such a framework would look like, and any related costs and benefits for small carriers.

We expect that the proposals in the NPRM will decrease regulatory burdens on small and other carriers, and also free up resources for use in development and deployment of next-generation networks. This would reduce costs and technical complexity associated with maintaining parallel TDM and IP-based networks, and reduce reporting and recordkeeping requirements associated with legacy networks, such as the requirement to file notices of network change. While we do not anticipate that these carriers will need to hire professionals to comply with the proposals herein, we request comments specific to any potential burdens or costs small entities may incur in connection with these requirements.

E. Discussion of Significant Alternatives Considered That Minimize the Significant Economic Impact on Small Entities

The RFA directs agencies to provide a description of any significant alternatives to the proposed rules that would accomplish the stated objectives of applicable statutes, and minimize any significant economic impact on small entities. The discussion is required to include alternatives such as: “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

The NPRM seeks comment on proposals and alternatives that we expect will positively impact small entities. We propose to eliminate the obligation under section 251(c)(2) of the Act that incumbent LECs provide direct interconnection upon request on December 31, 2028. This proposal reflects the ongoing transition to IP-based network architecture and the declining relevance of legacy TDM interconnection in an environment increasingly dominated by packet-switched technologies. In addition, the NPRM seeks comment on other factors that may determine the feasibility of the December 31, 2028 sunset date and any alternative benchmarks that should be met by small and other carriers in the interim. We seek comment on whether removing this requirement would eliminate unnecessary operational burdens and allow carriers, including small entities, to redirect resources away from maintaining outdated switching and signaling infrastructure and toward investment in modern, efficient, all-IP networks. Small entities may benefit if the Commission adopts proposed rules or other alternatives that facilitate the retirement of legacy equipment and the streamlining of interconnection arrangements through modern, IP-based alternatives. We seek comment on whether any of the burdens associated with alternatives that alter current filing, recordkeeping, and reporting requirements described in the NPRM can be further minimized to lessen economic impact on small entities.

The Commission will fully consider the economic impact on small entities as it evaluates the comments filed in response to the NPRM, including comments related to costs and benefits. Alternative proposals and approaches from commenters will further develop the record and could help the Commission further minimize the economic impact on small entities. The Commission's evaluation of the comments filed in this proceeding will shape the final conclusions it reaches, the final alternatives it considers, and the actions it ultimately takes to minimize any significant economic impact that may occur on small entities from the final rules.

F. Federal Rules That May Duplicate, Overlap, or Conflict With the Proposed Rules

None.

III. Ordering Clauses

Accordingly, it is ordered that pursuant to sections 1-4, 201, 251(a), 251(c)(2), 251(c)(6) of the Communications Act of 1934, as amended, 47 U.S.C. 151-54, 201, 251(a), 251(c)(2), 251(c)(6) the Notice of Proposed Rulemaking hereby is adopted.

It is further ordered that, pursuant to applicable procedures set forth in §§ 1.415 and 1.419 of the Commission's rules, 47 CFR 1.415, 1.419, interested parties may file comments on this Notice of Proposed Rulemaking on or before 30 days after publication in the Federal Register, and reply comments on or before 60 days after publication in the Federal Register.

It is further ordered that, the Commission's Office of the Secretary, shall send a copy of this Notice of Proposed Rulemaking, including the Initial Regulatory Flexibility Analysis, to the Chief Counsel for Advocacy of the Small Business Administration.

List of Subjects in 47 CFR Part 51

Communications, Communications common carriers, Telecommunications, Telephone, Federal Communications Commission.

Marlene Dortch,
Secretary.

Proposed Rules

For the reasons discussed in the preamble, the Federal Communications Commission proposes to amend 47 CFR part 51 as follows:

PART 51—INTERCONNECTION

1. The authority for part 51 continues to read as follows:

Authority: 47 U.S.C. 151-55, 201-05, 207-09, 218, 225-27, 251-52, 271, 332 unless otherwise noted.

§ 51.305 [Removed]

2. Remove § 51.305.

§ 51.321 [Removed]

3. Remove § 51.321.

§ 51.323 [Removed]

4. Remove § 51.323.

[FR Doc. 2025-21324 Filed 11-25-25; 8:45 am]

BILLING CODE 6712-01-P